DEPARTMENT OF LABOR

Employment and Training Administration

[TA-W-56,666]

Aim Nationalease Old Fort, NC; Notice of Termination of Investigation

Pursuant to Section 221 of the Trade Act of 1974, as amended, an investigation was initiated on March 2, 2005 in response to a petition filed on by a company official on behalf of workers of Aim Nationalease, Old Fort, North Carolina.

The petitioner has requested that the petition be withdrawn. Consequently, the investigation has been terminated.

Signed at Washington, DC, this 16th day of March, 2005.
Richard Church,
Certifying Officer, Division of Trade Adjustment Assistance.

[FR Doc. E5-1439 Filed 3-31-05; 8:45 am]

BILLING CODE 4510-30-P